SECURITIES AND EXCHANGE COMMISSION

Sunshine Act Meetings

TIME AND DATE: Notice is hereby given, pursuant to the provisions of the Government in the Sunshine Act, Public Law 94-409, the Securities and Exchange Commission will hold a joint Open Meeting with the Commodity Futures Trading Commission on Thursday, October 22, 2020, at 10:00 a.m.

PLACE: The meeting will be held via remote means and/or at the Commission's headquarters, 100 F Street NE, Washington, DC 20549.

STATUS: This meeting will begin at 10:00 a.m. (ET) and will be open to the public via audio webcast only on the Commission's website at www.sec.gov.

MATTERS TO BE CONSIDERED: At the joint open meeting, the Commissions will consider whether to adopt rule amendments to lower the margin requirement for an unhedged security futures position from 20% to 15% and adopt certain conforming revisions to the security futures margin offset table.

At the meeting, the Commissions also will consider whether to issue a request for comment on the portfolio margining of uncleared swaps and non-cleared security-based swaps. The request for comment would solicit comment on all aspects of the portfolio margining of uncleared swaps, non-cleared security-based swaps, and related positions, including on the merits, benefits, and risks of portfolio margining these types of positions, and on any regulatory, legal, and operational issues associated with portfolio margining them.

CONTACT PERSON FOR MORE INFORMATION: For further information and to ascertain what, if any, matters have been added, deleted or postponed, please contact Vanessa A. Countryman, Office of the Secretary, at (202) 551-5400.

Dated: October 15, 2020.
Vanessa A. Countryman,
Secretary.

[FR Doc. 2020-23245 Filed 10-16-20; 11:15 am]

BILLING CODE 8011-01-P